DEPARTMENT OF COMMERCE

National Institute of Standards and Technology

Advanced Technology Program; Announcement of Public Meetings

AGENCY: National Institute of Standards and Technology, Commerce.

ACTION: Notice of public meetings (Proposers' Conferences).

SUMMARY: The National Institute of Standards and Technology (NIST) invites interested parties to attend public meetings (Proposers” Conferences) to learn more about the Advanced Technology Program (ATP). The format and content of each of the public meetings will be the same. The ATP is a competitive cost-sharing program designed for the Federal government to work in partnership with industry to accelerate the development and broad dissemination of challenging, high-risk technologies that offer the potential for significant commercial payoffs and widespread benefits for the nation. This unique government-industry partnership accelerates the development of emerging or enabling technologies leading to revolutionary new products, industrial processes and services that can compete in rapidly changing world markets. The ATP challenges industry to take on higher risk projects with commensurately higher potential payoff to the nation. The ATP provides multi-year funding to single companies and to industry-led joint ventures.

DATES: The public meetings will be held on May 8, 2002 and May 10, 2002 in San Jose, California and Chicago (Rosemont), Illinois, respectively. In addition, on April 18, 2002, ATP announced in the Federal Register a Notice of a Proposers' Conference for May 2, 2002, in Gaithersburg, Maryland. All three meetings will be held from 9:30 a.m.-12:30 p.m. local time.

ADDRESSES: The meetings will be held at the following three locations: Thursday, May 2, 2002, Gaithersburg Hilton, 620 Perry Parkway, Gaithersburg, Maryland, Tel: 301-977-8900, Fax: 301-977-3450; Wednesday, May 8, 2002, Double Tree Hotel, 2050 Gateway Place, San Jose, California, Tel: 408-453-4000, Fax: 408-437-2898; and Friday, May 10, 2002, Holiday Inn O'Hare International, 5440 North River Road, Chicago (Rosemont), Illinois, Tel: 847-671-6350, Fax: 847-671-5406.

Information on the ATP may be obtained from the following address: National Institute of Standards and Technology, Advanced Technology Program, 100 Bureau Drive, Stop 4701, Administration Building 101, Room A413, Gaithersburg, MD 20899-4701.

Additionally, information on the ATP is available on the Internet at the ATP website http://www.atp.nist.gov.

FOR FURTHER INFORMATION CONTACT: For further information, you may telephone Toni Nashwinter at 301-975-3780 or e-mail: Toni.Nashwinter@nist.gov.

Requests for ATP information, application materials, and/or to have your name added to the ATP mailing list for future mailings may also be made by:

(a) Calling the ATP toll-free “hotline” number at 1-800-ATP-FUND or 1-800-287-3863. You will also have the option of hearing recorded messages regarding the status of the ATP or speaking to one of our customer representatives who will take your name and address. If you reach ATP voice mail, please speak distinctly and slowly and spell the words that might cause confusion. Leave your phone number as well as your name and address;

(b) Sending a facsimile (fax) to 301-926-9524 or 301-590-3053; or

(c) Sending electronic mail to atp@nist.gov. Include your name, full mailing address, and phone number.

SUPPLEMENTARY INFORMATION: The ATP statute originated in the Omnibus Trade and Competitiveness Act of 1988 (Public Law 100-418, 15 U.S.C. 278n) and was amended by the American Technology Preeminence Act of 1991 (Public Law 102-245). This law has been codified at 15 U.S.C. 278n. The ATP implementing regulations are published at 15 CFR part 295, as amended. The Catalog of Federal Domestic Assistance (CFDA) number and program title for the ATP are 11.612, Advanced Technology Program (ATP). The purpose of the ATP is to assist United States businesses to carry out research and development on high risk, high-payoff, emerging and enabling technologies.

These public meetings will provide general information regarding the ATP, details on the application process, tips on preparing good proposals, and an opportunity for audience questions. The format and content of each of the public meetings will be the same.

No registration fee will be charged.

Registration for the public meetings is as follows:

For registration by phone, contact ATP at 1-800-ATP-FUND.

To register electronically, visit www.atp.nist/gov/atp/reg_form.htm. Please select the ATP Proposers' Conference form and register.

You may fax your registration by completing and printing the electronic form above. It should be faxed to 301-926-9524 or 301-590-3053.

Or, you may mail the registration form to the Advanced Technology Program, NIST, 100 Bureau Drive, Stop 4701, Gaithersburg, MD 20899-4701.

Dated: April 17, 2002.
Karen H. Brown,
Deputy Director.

[FR Doc. 02-9816 Filed 4-22-02; 8:45 am]

BILLING CODE 3510-13-P